DEPARTMENT OF TRANSPORTATION

Surface Transportation Board

[Docket No. FD 35893]

Pennsylvania & Southern Railway, LLC—Operation Exemption—Franklin County General Authority

Pennsylvania & Southern Railway, LLC (PSCC), a Class III carrier, has filed a verified notice of exemption under 49 CFR 1150.41 to acquire extended operating rights over approximately 25 miles of track and associated right-of-way within the Cumberland Valley Business Park and the Letterkenny Army Depot near Chambersburg, Franklin County, Pa. (the Rail Lines), pursuant to an amended agreement between PSCC and the Franklin County General Authority (FCGA).

PSCC states that it currently operates over the Rail Lines pursuant to an operation exemption issued in Pennsylvania & Southern Railway—Operation Exemption—Franklin County General Authority, FD 34461 (STB served Feb. 12, 2004). PSCC and FCGA have entered into an amended rail operating agreement that extends the term of the current agreement until October 31, 2039, and makes other minor changes to the existing agreement. PSCC states that the amended terms will promote stability for the rail operations and justify further investment in the operations.

PSCC also states that it will continue to interchange with CSXT and certifies that no interchange commitments will be required as part of this transaction.

PSCC certifies that its projected revenues as a result of the transaction will not result in the creation of a Class I or Class II rail carrier.

PSCC states that it intends to begin operations under the amended rail operating agreement on or after the effective date of the exemption, which is January 22, 2015 (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than January 15, 2015 (at least seven days before the exemption becomes effective).

An original and ten copies of all pleadings, referring to Docket No. FD 35893, must be filed with the Surface Transportation Board, 395 E Street SW., Washington, DC 20423-0001. In addition, a copy of each pleading must be served on Eric M. Hocky, Clark Hill PLC, One Commerce Square, 2005 Market Street, Suite 1000, Philadelphia, PA 19103.

Board decisions and notices are available on our Web site at www.stb.dot.gov.

Decided: January 5, 2015.
By the Board, Rachel D. Campbell, Director, Office of Proceedings.
Jeffrey Herzig,
Clearance Clerk.

[FR Doc. 2015-00075 Filed 1-7-15; 8:45 am]

BILLING CODE 4915-01-P